DEPARTMENT OF TRANSPORTATION

Federal Railroad Administration

[Docket No. FRA-2015-0009]

Filing Process for Petitions for Waiver and Other Exemptions, Applications, and Special Approvals

AGENCY: Federal Railroad Administration (FRA), Department of Transportation (DOT).

ACTION: Notice.

SUMMARY: This document provides the public notice that FRA has created an electronic mailbox to receive petitions for waivers and exemptions from railroad safety rules and regulations, as well as applications for modification or discontinuance of railroad signal systems (block signal applications) and certain special approvals from railroad safety rules and regulations. The email address for this inbox is FRAWaivers@dot.gov. FRA requests that all railroad safety waiver and exemption requests, as well as block signal applications and special approval applications be submitted either to FRA's Docket Clerk in accordance with the existing requirements in Title 49 Code of Federal Regulations (CFR) Part 211, Rules of Practice, or to this email address.

FOR FURTHER INFORMATION CONTACT: Milicent D. White, Program Specialist, 202-493-1328, Milicent.White@dot.gov, 1200 New Jersey Avenue SE., Washington, DC 20590.

SUPPLEMENTARY INFORMATION: This document announces FRA's establishment of an electronic mailbox to receive petitions for waivers, certain petitions for special approvals and exemptions from railroad safety rules and regulations, as well as block signal applications. The email address for this inbox is FRAWaivers@dot.gov. FRA anticipates providing a link on its Web page (www.fra.dot.gov) to this mailbox to further streamline the filing process. FRA created this electronic mailbox in order to streamline the filing process for certain documents typically filed in accordance with 49 CFR 211.7, Filing Requirements, including petitions for waiver of any FRA rule or regulation, applications for special approval under 49 CFR 211.55 or 238.21, restricted car approvals under 49 CFR 215.203, grandfathering approvals under 238.203, and signal applications under 49 CFR parts 235 and 236 (block signal applications). FRA is providing the flexibility for electronic filing of these petitions and applications also with the intent to avoid lost, misplaced, delayed, damaged or illegible hardcopy mail. FRA requests that all railroad safety waiver and exemption requests, as well as block signal applications and special approval applications (including new requests, requests for extensions of existing waivers or approvals, or withdrawals, along with all supporting documentation), be submitted to either FRA's Docket Clerk at the address provided in 49 CFR 211.1(b)(4) in accordance with the existing requirements of 49 CFR 211.7 or to the above-referenced email address. FRA is providing for the electronic filing of waivers and other requests for regulatory relief traditionally filed in hard copy through FRA's Docket Clerk in order to increase the efficiency of the process both internally and externally. FRA anticipates following this notice with a rulemaking modifying the applicable procedural regulations (49 CFR part 211) to specifically provide for the electronic filing of the above-identified documents. In anticipation of this rulemaking, any interested party may submit comments regarding the use of this electronic mailbox for submission of railroad safety waiver and exemption requests, block signal applications, and special approval applications.

A copy of this notice, as well as any written communications concerning the notice, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties may submit written views, data, or comments regarding the use of an electronic mailbox as described in this notice. All written submissions should be submitted by May 12, 2015.

All communications concerning this notice should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on March 10, 2015.
Ron Hynes,
Director of Technical Oversight.

[FR Doc. 2015-05751 Filed 3-12-15; 8:45 am]

BILLING CODE 4910-06-P